DEPARTMENT OF THE INTERIOR

Fish and Wildlife Service

[FWS-R8-ES-2008-N0048; 80221-1113-0000-F5]

Endangered Species Recovery Permit Applications

AGENCY: Fish and Wildlife Service, Interior.

ACTION: Notice of receipt of permit applications; request for comment.

SUMMARY: We invite the public to comment on the following applications to conduct certain activities with endangered species.

DATES: Comments on these permit applications must be received on or before May 7, 2008.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, see ADDRESSES, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-0540111

Applicant: John Green, Riverside, California.

The applicant requests an amendment to take (harass by survey) the Yuma clapper rail (Rallus longirostris yumanensis) in conjunction with surveys in California, Nevada, and Arizona for the purpose of enhancing its survival.

Permit No. TE-804203

Applicant: Stephen Myers, Victorville, California.

The applicant requests an amendment to take (harass by survey) the Yuma clapper rail (Rallus longirostris yumanensis) in conjunction with surveys in California and Arizona, and take (harass by survey) the Southwestern willow flycatcher (Empidonax traillii extimus) in conjunction with surveys in Nevada, Arizona, New Mexico, Utah, and Colorado for the purpose of enhancing its survival.

Permit No. TE-039640

Applicant: Kristopher Alberts, San Clemente, California.

The applicant requests an amendment to take (harass by survey) the Southwestern willow flycatcher (Empidonax traillii extimus), and (nest monitor) the lease Bell's vireo (Vireo bellii pusillus) in conjunction with surveys and monitoring throughout the range of the species in California, Arizona, New Mexico, Nevada, Utah, Texas, and Colorado for the purpose of enhancing their survival.

Permit No. TE-176209

Applicant: San Francisco International Airport, San Francisco, California.

The applicant requests an amendment to take (survey, capture, mark, and recapture) the San Francisco garter snake (Thamnophis sirtalis) in conjunction with habitat enhancement and population monitoring in San Mateo County, California, for the purpose of enhancing its survival.

Permit No. TE-135968

Applicant: Theresa C. Miller, San Diego, California.

The applicant requests an amendment to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California, for the purpose of enhancing their survival.

We solicit public review and comment on each of these recovery permit applications. Comments and materials we receive will be available for public inspection, by appointment, during normal business hours at the address listed in the ADDRESSES section of this notice.

Dated: April 1, 2008.
Michael Fris,
Acting Regional Director, Region 8, Sacramento, California.

1

[FR Doc. E8-7172 Filed 4-4-08; 8:45 am]

BILLING CODE 4310-55-P